DEPARTMENT OF THE INTERIOR

Bureau of Land Management

[AK-910-08-1739-NSSI]

Notice of Public Meeting, North Slope Science Initiative, Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Advisory Panel (STAP), will meet as indicated below.

DATES: The meeting will be held September 18 and 19, 2008, at the National Park Service Office, 4175 Geist Road, Fairbanks, Alaska. The September 18 meeting will begin at 9 a.m., with a one-hour public comment beginning at 3 p.m. The September 19 meeting will begin at 9 a.m. and adjourn at 12:20 p.m.

FOR FURTHER INFORMATION CONTACT: John F. Payne, PhD, Executive Director, North Slope Science Initiative (910), c/o Bureau of Land Management, 222 W. Seventh Avenue, #13, Anchorage, Alaska 99513. Telephone (907) 271-3131 or e-mail jpayne@ak.blm.gov.

SUPPLEMENTARY INFORMATION: The North Slope Science Initiative, Science Technical Advisory Panel provides advice and recommendations to the North Slope Science Initiative Oversight Group regarding priority needs for management decisions across the North Slope of Alaska. These priority needs may include recommendations on inventory, monitoring and research activities that contribute to informed land management decisions. At this meeting, discussion topics will include:

• Report by Science Technical Advisory Panel Chair on committee activities

• Development of emerging issues

• Coordination with senior NSSI agency staff on emerging issues

• Subcommittee reports

• Other topics the Oversight Group or Science Technical Advisory Panel may raise

All meetings are open to the public. Depending on the number of people wishing to comment and time available, the time for individual oral comments may be limited, so be prepared to submit written comments if necessary. You may present written comments to the Science Technical Advisory Panel through the Executive Director, North Slope Science Initiative. Before including your address, phone number, e-mail address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact the Executive Director, North Slope Science Initiative.

Dated: August 6, 2008.
Thomas P. Lonnie,
Alaska State Director.

[FR Doc. E8-18715 Filed 8-12-08; 8:45 am]

BILLING CODE 4310-JA-P